DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than April 21, 2000.

Interested persons are invited to submit written comments regarding the subject matter of the investigations to the Director, Division of Trade Adjustment Assistance, at the address shown below, not later than April 21, 2000.

The petitions filed in this case are available for inspection at the Office of the Director, Division of Trade Adjustment Assistance, Employment and Training Administration, U.S. Department of Labor, 200 Constitution Avenue, NW, Washington, DC 20210.

Signed at Washington, D.C. this 27th day of March, 2000.
Grant D. Beale,
Program Manager, Division of Trade Adjustment Assistance.

Appendix
[Petitions instituted on 03/27/00]
TA-W | Subject firm (petitioners) | Location | Date of petition | Product(s)
37,496 | Zin Plas (Co.) | Grand Rapids, MI | 03/10/00 | Plumbing Components.
37,497 | Russell Athletic (Co.) | Ashland, AL | 03/10/00 | Knit Apparel.
37,498 | Corbin Ltd (UNITE) | Huntington, WV | 03/08/00 | Trousers.
37,499 | Lenox China (GMP) | Pomona, NJ | 03/03/00 | Fine China Dinnerware.
37,500 | Ultra Building Systems (Wkrs) | S. Hackensack, NJ | 02/15/00 | Vinyl Windows.
37,501 | Stant, Inc. (Wkrs) | Connersville, IN | 03/13/00 | Chrome Plating Fuel Rail and Components.
37,502 | Leica Microsystems (Wkrs) | Depew, NY | 03/17/00 | Scientific and Ophthalmic Instrumentation.
37,503 | Swiss-M-Tex (Wkrs) | Travelers Rest, SC | 03/18/00 | Schiffli Embroidery.
37,504 | MTF, Inc (Wkrs) | West Lawn, PA | 03/15/00 | Finish Yarn.
37,505 | Fedco Automotive Co. (Wkrs) | Buffalo, NY | 03/09/00 | Heater Cores.
37,506 | Ingersoll Rand (Wkrs) | Los Angeles, CA | 03/04/00 | Door Locks and Door Lock Parts.
37,507 | American Identity (Co.) | Canton, SD | 03/08/00 | Outerwear Jackets.
37,508 | Meritor Automotive (UAW) | Oshkosh, WI | 03/02/00 | Axles, Transmissions.
37,509 | May Apparel (The) (Co.) | Mebane, NC | 03/09/00 | Infant and Childrens Apparel.
37,510 | Cliftex Corp (UNITE) | New Bedford, MA | 03/13/00 | Men's Sportswear.
37,511 | Avent—Kimberly Clark (Co.) | Tucson, AZ | 03/13/00 | Disposable Surgical Gowns, Caps, etc.
37,512 | London International (Co.) | Dothan, AL | 01/10/00 | Condoms.
37,513 | Apparel Sales & Printing (Co.) | Andrews, SC | 03/06/00 | Tee-Shirts.
37,514 | C and L Textiles Corp. (Co.) | New York, NY | 03/03/00 | Knitted Fabric.
37,515 | Sierra Pacific Apparel (Co.) | Visalia, CA | 03/14/00 | Jeans—Men, Women and Children.
37,516 | Finishing 2000 (Co.) | El Paso, TX | 03/14/00 | Finish Jeans.
37,517 | U.S. Sales Corp. (Wkrs) | San Fernando, CA | 03/07/00 | Direct Mail Distribution.
37,518 | Double “L” Learning (Wkrs) | Tupelo, MS | 03/15/00 | Provides Childcare.
37,519 | Air Products & Chemicals (Co.) | Pace, FL | 03/17/00 | Methanol and Methylamines.

[FR Doc. 00-8921 Filed 4-10-00; 8:45 am]

BILLING CODE 4510-30-M